DEPARTMENT OF TRANSPORTATION

Federal Aviation Administration

14 CFR Part 71

[Docket No.FAA-2015-3084; Airspace Docket No. 15-AGL-13]

Proposed Establishment of Class E Airspace; International Falls, MN

AGENCY: Federal Aviation Administration (FAA), DOT.

ACTION: Notice of proposed rulemaking (NPRM), correction.

SUMMARY: This action makes a correction to the NPRM published in the Federal Register of August 27, 2015, proposing to establish Class E en route domestic airspace in the International Falls, MN area. Exclusionary reference to Canadian airspace was omitted from the regulatory text.

DATES: Comments due date remains October 13, 2015.

ADDRESSES: Send comments on this proposal to the U.S. Department of Transportation, Docket Operations, 1200 New Jersey Avenue SE., West Building Ground Floor, Room W12-140, Washington, DC 20590-0001. You must identify the docket number FAA-2015-3084/Airspace Docket No. 15-AGL-13, at the beginning of your comments. You may also submit comments through the Internet at http://www.regulations.gov. You may review the public docket containing the proposal, any comments received, and any final disposition in person in the Dockets Office between 9:00 a.m. and 5:00 p.m., Monday through Friday, except Federal holidays. The Docket Office (telephone 1-800-647-5527), is on the ground floor of the building at the above address.

FAA Order 7400.9Y, Airspace Designations and Reporting Points, and subsequent amendments can be viewed online at http://www.faa.gov/air_traffic/publications/. For further information, you can contact the Airspace Policy and Regulations Group, Federal Aviation Administration, 800 Independence Avenue SW., Washington, DC, 20591; telephone: 202-267-8783. The Order is also available for inspection at the National Archives and Records Administration (NARA). For information on the availability of this material at NARA, call 202-741-6030, or go to http://www.archives.gov/federal_register/code_of_federal-regulations/ibr_locations.html.

FAA Order 7400.9, Airspace Designations and Reporting Points, is published yearly and effective on September 15.

FOR FURTHER INFORMATION CONTACT: Raul Garza, Jr., Central Service Center, Operations Support Group, Federal Aviation Administration, Southwest Region, 2601 Meacham Blvd., Fort Worth, TX 76137; telephone: 817-868-2927.

SUPPLEMENTARY INFORMATION: History. A notice of proposed rulemaking was published in the Federal Register of August 27, 2015 (80 FR 51972). In the regulatory text of the proposed rule, exclusionary language was inadvertently omitted from the legal description of the airspace. This action makes the correction. The legal description is rewritten for clarity.

Proposed Amendment Correction

Accordingly, pursuant to the authority delegated to me, in the Federal Register of August 27, 2015 (80 FR 51972), FR Docket 2015-21087, the legal description on page 51973, column 2, beginning at line 31, is corrected to read as follows:

§ 71.1 [Amended]

AGL MN E6 International Falls, MN [Corrected]

That airspace extending upward from 1,200 feet above the surface within an area bounded by lat. 49°00′00″ N., long. 095°00′00″ W.; to lat. 49°00′00″ N., long. 093°30′00″ W.; to lat. 48°06′30″ N., long. 090°06′00″ W.; to lat. 47°53′00″ N., long. 090°55′00″ W.; to lat. 48°34′00″ N., long. 094°00′00″ W.; to lat. 48°40′00″ N., long. 095°00′00″ W., thence to the point of beginning, excluding that airspace within Federal airways and within Canadian airspace.

Issued in Fort Worth, TX, on September 9, 2015.
Robert W. Beck,
Manager, Operations Support Group, ATO Central Service Center.

[FR Doc. 2015-24159 Filed 9-24-15; 8:45 am]

BILLING CODE 4910-13-P